COMMISSION ON CIVIL RIGHTS

Agenda and Notice of Public Meeting of the California Advisory Committee

Notice is hereby given, pursuant to the provisions of the rules and regulations of the U.S. Commission on Civil Rights (Commission), and the Federal Advisory Committee Act (FACA), that a meeting of the California Advisory Committee (Committee) to the Commission will convene on Wednesday, December 2, 2009 at 9:30 a.m. and adjourn on or about 11 a.m. at the Federal Building, 300 North Los Angeles St., Suite 2010, Los Angeles, CA 90012. The purpose of the meeting is for the Committee to plan a briefing for fiscal year 2010.

Members of the public are entitled to submit written comments. The comments must be received in the regional office by January 2, 2010. The address is U.S. Commission on Civil Rights, 300 North Los Angeles St., Suite 2010, Los Angeles, CA 90012. Persons wishing to e-mail their comments or who desire additional information should contact Peter Minarik, Regional Director, Western Regional Office, at (213) 894-3437 or 800-877-8339 for individuals who are deaf, hearing impaired, and/or have speech disabilities or by e-mail to pminarik@usccr.gov.

Hearing-impaired persons who will attend the meeting and require the services of a sign language interpreter should contact the Regional Office at least ten (10) working days before the scheduled date of the meeting.

Records generated from this meeting may be inspected and reproduced at the Western Regional Office, as they become available, both before and after the meeting. Persons interested in the work of this advisory committee are advised to go to the Commission's Web site, http://www.usccr.gov, or to contact the Western Regional Office at the above e-mail or street address.

The meeting will be conducted pursuant to the provisions of the rules and regulations of the Commission and FACA.

Dated in Washington, DC, November 4, 2009.
Peter Minarik,
Acting Chief, Regional Programs Coordination Unit.

[FR Doc. E9-27153 Filed 11-10-09; 8:45 am]

BILLING CODE 6335-01-P